DEPARTMENT OF THE INTERIOR

Bureau of Reclamation

Central Valley Project Improvement Act; Refuge Water Management Plans

AGENCY: Bureau of Reclamation, Interior.

ACTION: Notice of availability.

SUMMARY: To meet the requirements of the Central Valley Project Improvement Act of 1992 (CVPIA) and subsequent Department of the Interior administrative review process, the Bureau of Reclamation developed and published the Criteria for Developing Refuge Water Management Plans (Refuge Criteria). Several entities have each developed a Refuge Water Management Plan (Refuge Plan), which Reclamation has evaluated and preliminarily determined to meet the requirements of these Refuge Criteria (see list in Supplementary Information below). Willow Creek Mutual Water Company Refuge Plan was developed in accordance with the Refuge Criteria applicable to the conservation easements that have been acquired by the United States Fish and Wildlife Service. Reclamation is publishing this notice in order to allow the public to review the plans and comment on the preliminary determinations. Public comment on Reclamation's preliminary (i.e., draft) determination is invited at this time.

DATES: All public comments must be received by October 24, 2011.

ADDRESSES: Submit written comments to Ms. Christy Ritenour, Bureau of Reclamation, 2800 Cottage Way, MP-410, Sacramento, California 95825; or e-mail at critenour@usbr.gov.

FOR FURTHER INFORMATION CONTACT: To be placed on a mailing list for any subsequent information, please contact Ms. Christy Ritenour at critenour@usbr.gov, or call (916) 978-5281 (TDD 978-5608).

SUPPLEMENTARY INFORMATION: The following Refuge Water Management Plans are available for review:

• San Luis National Wildlife Refuge

• Kern National Wildlife Refuge

• Merced National Wildlife Refuge

• Pixley National Wildlife Refuge

• Los Banos State Wildlife Area

• Volta State Wildlife Area

• North Grassland State Wildlife Area

• Mendota State Wildlife Area

• Grassland Resource Conservation District (GRCD)

• Delevan National Wildlife Refuge

• Colusa National Wildlife Refuge

• Sacramento National Wildlife Refuge

• Gray Lodge State Wildlife Area

• Willow Creek Mutual Water Company (conservation easement lands)

We are inviting the public to comment on our preliminary (i.e., draft) determination of Refuge Plan adequacy. The Refuge Criteria provides a common methodology, or standard, for efficient use of water by Federal Wildlife Refuges, State wildlife management areas, and resource conservation districts that receive water under provisions of the CVPIA. The Refuge Criteria can be found at the following Web site http://www.usbr.gov/mp/watershare/documents.html under the Refuge Criteria topic panel. Reclamation will evaluate Refuge Plans based on these criteria. These Refuge Plans are available at Reclamation's Mid-Pacific Regional Office, 2800 Cottage Way, MP-410, Sacramento, California, 95825. If you wish to receive a copy of these Refuge Plans, please contact Ms. Christy Ritenour. Our practice is to make comments, including names and home addresses of respondents, available for public review.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: September 16, 2011.
Richard J. Woodley,
Regional Resources Manager, Mid-Pacific Region, Bureau of Reclamation.

[FR Doc. 2011-24338 Filed 9-21-11; 8:45 am]

BILLING CODE P